Title 3—

The President

Proclamation 10133 of January 14, 2021

To Continue Facilitating Positive Adjustment to Competition From Imports of Large Residential Washers

By the President of the United States of America

A Proclamation

1. On January 23, 2018, pursuant to section 203 of the Trade Act of 1974, as amended (the “Trade Act”) (19 U.S.C. 2253), I issued Proclamation 9694, which imposed a safeguard measure for a period of 3 years plus 1 day comprising both a tariff-rate quota (TRQ) on imports of large residential washers (washers) provided for in subheadings 8450.11.00 and 8450.20.00 of the Harmonized Tariff Schedule of the United States (HTS) and a TRQ on covered washer parts provided for in subheadings 8450.90.20 and 8450.90.60 of the HTS. I exempted covered imports from Canada and certain designated beneficiary countries under the Generalized System of Preferences (GSP) from the application of the measure.

2. On May 16, 2019, I issued Proclamation 9887, which removed Turkey from the list of GSP beneficiary countries, and modified the safeguard measure so that imports from Turkey were no longer excluded. On May 31, 2019, I issued Proclamation 9902, which removed India from the list of GSP beneficiary countries, and modified the safeguard measure so that imports from India were no longer excluded.

3. On August 7, 2019, the United States International Trade Commission (ITC) issued its report pursuant to section 204(a)(2) of the Trade Act (19 U.S.C. 2254(a)(2)), on the results of its monitoring of developments with respect to the domestic washers industry (ITC, Large Residential Washers: Monitoring Developments in the Domestic Industry, No. TA-204-013). After taking into account the information provided in the ITC's report and receiving a petition from the representative of the majority of the domestic industry, I determined that the domestic industry had begun to make positive adjustment to import competition but that, despite that adjustment, increased imports of washers at peak times of the year impaired the effectiveness of the action I proclaimed in Proclamation 9694. On January 23, 2020, pursuant to sections 204(b)(1)(B) and 204(b)(2) of the Trade Act (19 U.S.C. 2254(b)(1)(B) and (b)(2)), I issued Proclamation 9979 to modify the action I took in Proclamation 9694 by allocating on a quarterly basis, within-quota quantities of 1.2 million units during the third year of the action, beginning February 7, 2020.

4. On December 8, 2020, in response to a petition by the representatives of the domestic industry, the ITC issued its determination and report pursuant to section 204(c) of the Trade Act (19 U.S.C. 2254(c)), finding that the safeguard measure I imposed continues to be necessary to prevent or remedy the serious injury to the domestic industry, and that there is evidence that the domestic industry is making a positive adjustment to import competition (ITC, Large Residential Washers: Extension of Action, No. TA-201-076 (Extension)).

5. Section 203(e)(1)(B) of the Trade Act (19 U.S.C. 2253(e)(1)(B)) authorizes the President, after receiving an affirmative determination from the ITC pursuant to section 204(c) of the Trade Act (19 U.S.C. 2254(c)), to extend the effective period of any action taken under section 203 of the Trade Act if the President determines that the action continues to be necessary to prevent or remedy the serious injury and there is evidence that the domestic industry is making a positive adjustment to import competition.

6. Pursuant to section 203(e)(1)(B) of the Trade Act (19 U.S.C. 2253(e)(1)(B)), I have determined that the action continues to be necessary to prevent or remedy the serious injury to the domestic washers industry and there is evidence that the domestic washers industry is making a positive adjustment to import competition, and I have further determined to extend the safeguard measure proclaimed in Proclamation 9694, as modified, as follows:

(a) continuation of the tariff-rate quota on imports of washers described in paragraph 1 of this proclamation for an additional period of 2 years, with unchanging within-quota quantities, annual reductions in the rates of duties entered within those quantities in the fourth and fifth years, and annual reductions in the rates of duty applicable to goods entered in excess of those quantities in the fourth and fifth years; and

(b) continuation of the tariff-rate quota on imports of covered washer parts described in paragraph 1 of this proclamation for an additional period of 2 years, with increasing within-quota quantities and annual reductions in the rates of duty applicable to goods entered in excess of those quantities in the fourth and fifth years.

7. As provided in Proclamation 9694, as modified by Proclamations 9887 and 9902, this safeguard measure shall apply to imports from all countries, except for products of Canada and except as provided in paragraph 8 of this proclamation.

8. As I further provided in Proclamation 9694, as modified by Proclamations 9887 and 9902, this safeguard measure shall not apply to imports of any product described in paragraph 1 of this proclamation of a developing country that is a Member of the World Trade Organization (WTO), as listed in subdivision (b)(2) of Note 17 in the Annex to this proclamation, as long as such country's share of total imports of the product, based on imports during a recent representative period, does not exceed 3 percent, provided that imports that are the product of all such countries with less than 3 percent import share collectively account for not more than 9 percent of total imports of the product. If I determine that a surge in imports of a product described in paragraph 1 of this proclamation of a developing country that is a WTO Member results in imports of that product from that developing country exceeding either of the thresholds described in this paragraph, the safeguard measure shall be modified to apply to such product from such country. In addition, if I determine within 60 days of the date of this proclamation, as a result of consultations between the United States and other WTO Members pursuant to Article 12.3 of the WTO Agreement on Safeguards, that it is necessary to modify the terms of extension of the safeguard measure, or to terminate the safeguard measure, I shall proclaim the corresponding modification or termination within 40 days of the date of my determination.

9. As I further provided in Proclamation 9694, the in-quota quantity in each year under the tariff-rate quota described in subparagraph (a) of paragraph 6 of this proclamation shall be allocated on a quarterly basis as provided for in Proclamation 9979.

10. Section 604 of the Trade Act (19 U.S.C. 2483) authorizes the President to embody in the HTS the substance of the relevant provisions of that Act, and of other acts affecting import treatment, and actions thereunder, including the removal, modification, continuance, or imposition of any rate of duty or other import restriction.

NOW, THEREFORE, I, DONALD J. TRUMP, President of the United States of America, acting under the authority vested in me by the Constitution and the laws of the United States, including but not limited to sections 203, 204, and 604 of the Trade Act, do proclaim that:

(1) In order to extend the measure applicable to imports of washers and covered parts described in paragraph 1 of this proclamation, subchapter III of chapter 99 of the HTS is modified as set forth in the Annex to this proclamation. Any merchandise subject to the safeguard measure that is admitted into United States foreign trade zones on or after 12:01 a.m., eastern standard time, on February 8, 2021, must be admitted as “privileged foreign status” as defined in 19 CFR 146.41, and will be subject upon entry for consumption to any tariffs or quantitative restrictions related to the classification under the applicable HTS subheading.

(2) Imports of washers and covered washer parts that are the product of Canada shall continue to be excluded from the safeguard measure extended by this proclamation, and such imports shall not be counted toward the tariff-rate quota limits that trigger the over-quota rates of duty.

(3) Except as provided in clause (4) below, imports of washers and covered washer parts that are the product of WTO Member developing countries, as listed in subdivision (b)(2) of Note 17 in the Annex to this proclamation, shall continue to be excluded from the safeguard measure extended by this proclamation, and such imports shall not be counted toward the tariff-rate quota limits that trigger the over-quota rates of duties.

(4) If, after the extension proclaimed herein is in effect, the United States Trade Representative (USTR) determines that:

(a) the share of total imports of the product of a country listed in subdivision (b)(2) of Note 17 in the Annex to this proclamation exceeds 3 percent;

(b) imports of the product from all listed countries with less than 3 percent import share collectively account for more than 9 percent of total imports of the product; or

(c) a country listed in subdivision (b)(2) of Note 17 in the Annex to this proclamation is no longer a developing country for purposes of this proclamation;

the USTR is authorized, upon publication of a notice in the Federal Register, to revise subdivision (b)(2) of Note 17 in the Annex to this proclamation to remove the relevant country from the list or suspend operation of that subdivision, as appropriate.

(5) If, after the extension proclaimed herein is in effect, the USTR determines that the out-of-quota quantity in units of covered washer parts entered under the tariff lines in chapter 99 enumerated in the Annex to this proclamation has increased by an unjustifiable amount and undermines the effectiveness of the safeguard measure, the USTR is authorized, upon publication of a notice in the Federal Register of such determination, to modify the HTS provisions created by the Annex to this proclamation so as to modify the tariff-rate quota on covered washer parts with a quantitative restriction on covered washer parts at a level that the USTR considers appropriate.

(6) In order to continue allocating, on a quarterly basis, the within-quota quantities of the TRQ limits applicable to imports of washers under HTS subheadings 8450.11.00 and 8450.20.00, subchapter III of chapter 99 of the HTS is modified as set forth in the Annex to this proclamation. These allocations shall continue in effect as provided in the Annex to this proclamation, unless such actions are earlier expressly reduced, modified, or terminated.

(7) One year from the termination of the safeguard measure established in this proclamation, the U.S. note and tariff provisions established in the Annex to this proclamation shall be deleted from the HTS.

(8) Any provision of previous proclamations and Executive Orders that is inconsistent with the actions taken in this proclamation is superseded to the extent of such inconsistency.

IN WITNESS WHEREOF, I have hereunto set my hand this fourteenth day of January, in the year of our Lord two thousand twenty-one, and of the Independence of the United States of America the two hundred and forty-fifth.

Billing code 3295-F1-P

[FR Doc. 2021-01466

Filed 1-19-21; 11:15 a.m.]

Billing code 7020-02-C